DEPARTMENT OF TRANSPORTATION

Federal Aviation Administration

Office of Commercial Space Transportation: Notice of Availability of the Final Environmental Assessment and Finding of No Significant Impact/Record of Decision for the Shuttle Landing Facility Launch Site Operator License

AGENCY: The Federal Aviation Administration (FAA), Department of Transportation (DOT) is the lead agency. The National Aeronautics and Space Administration (NASA), U.S. Air Force, U.S. Fish and Wildlife Service (USFWS), and National Park Service (NPS) are cooperating agencies for this Environmental Assessment (EA) due to their special expertise and jurisdictions.

ACTION: Notice of availability.

SUMMARY: In accordance with the National Environmental Policy Act of 1969, as amended (NEPA), Council on Environmental Quality NEPA implementing regulations, and Federal Aviation Administration (FAA) Order 1050.1F, Environmental Impacts: Policies and Procedures, the FAA is announcing the availability of the Final Environmental Assessment and Finding of No Significant Impact/Record of Decision for the Shuttle Landing Facility (SLF) Launch Site Operator License (Final EA and FONSI/ROD).

FOR FURTHER INFORMATION CONTACT: Ms. Stacey M. Zee, Environmental Protection Specialist, Federal Aviation Administration, 800 Independence Avenue SW, Suite 325, Washington, DC 20591; email Stacey.Zee@faa.gov.

SUPPLEMENTARY INFORMATION: The Shuttle Landing Facility (SLF) encompasses about 4,432 acres of property at Kennedy Space Center, including the 15,000 foot long, 300 foot wide runway. The SLF, which previously supported the National Aeronautics and Space Administration's Space Shuttle Program, is now a state-licensed private use airport managed by Space Florida. Under the Proposed Action described in the Final EA, Space Florida would construct launch site facilities and the FAA would issue a launch site operator license to Space Florida for the operation of a commercial space launch site at the SLF. The EA may be used to support the issuance of launch licenses or experimental permits to prospective vehicle operators that propose to conduct launches of horizontal takeoff and horizontal landing launch vehicles from the SLF. However, if a prospective launch vehicle operator's vehicle parameters fall outside those analyzed in the EA, the FAA would re-evaluate the potential impacts and, if necessary, prepare additional NEPA analysis.

The Final EA addresses the potential environmental impacts of Space Florida's proposal to construct and operate the SLF as a launch location for horizontally launched and landed rockets. The Final EA considers the potential environmental impacts of the Proposed Action and the No Action Alternative. The successful completion of the environmental review process does not guarantee that the FAA Office of Commercial Space Transportation would issue a Launch Site Operator License to Space Florida. The project must also meet all FAA requirements of a Launch Site Operator License. Individual launch operators proposing to launch from the site would be required to obtain a separate launch operator license.

An electronic version of the Final EA and FONSI/ROD is available on the FAA Office of Commercial Space Transportation website at: https://www.faa.gov/about/office_org/headquarters_offices/ast/environmental/nepa_docs/review/documents_progress/space_florida/.

Issued in Washington, DC, on November 13, 2018.
Daniel Murray,
Manager, Space Transportation Development Division.

[FR Doc. 2018-25186 Filed 11-16-18; 8:45 am]

BILLING CODE 4910-13-P